DEPARTMENT OF HOMELAND SECURITY

Bureau of Customs and Border Protection

19 CFR Part 122

[USCBP-2007-0017; CBP Dec. 08-01]

Addition of San Antonio International Airport to List of Designated Landing Locations for Certain Aircraft

AGENCY: Customs and Border Protection; Department of Homeland Security.

ACTION: Final rule.

SUMMARY: This document amends the Customs and Border Protection (CBP) Regulations by adding the San Antonio International Airport (SAT), located in San Antonio, Texas, to the list of designated airports at which certain aircraft arriving in the continental United States from certain areas south of the United States must land for CBP processing. This amendment is made to improve the effectiveness of CBP enforcement efforts to combat the smuggling of contraband by air into the United States from the south.

DATES: April 7, 2008.

FOR FURTHER INFORMATION CONTACT: Fred Ramos, Program Manager, Admissibility and Passenger Programs, Office of Field Operations, Customs and Border Protection at (202) 344-3726.

SUPPLEMENTARY INFORMATION:

Background

In a Notice of Proposed Rulemaking (NPRM) published in the Federal Register on September 11, 2007, CBP proposed to amend its regulations by adding the San Antonio International Airport (SAT), located in San Antonio, Texas, to the list of designated airports at which certain aircraft arriving in the continental United States from certain areas south of the United States must land for CBP processing. See 72 FR 51730.

As part of CBP's efforts to combat drug-smuggling activities, CBP air commerce regulations were amended in 1975 by Treasury Decision (T.D.) 75-201, to impose special reporting requirements and control procedures on certain aircraft arriving in the continental United States via the U.S./Mexican border, the Pacific Coast, the Gulf of Mexico, or the Atlantic Coast from certain locations in the southern portion of the Western Hemisphere. These special reporting requirements apply to all aircraft except the following: Public aircraft; those aircraft operated on a regularly published schedule, pursuant to a certificate of public convenience and necessity or foreign aircraft permit issued by the Department of Transportation authorizing interstate, overseas air transportation; and those aircraft with a seating capacity of more than 30 passengers or a maximum payload capacity of more than 7,500 pounds which are engaged in air transportation for compensation or hire on demand. See 19 CFR 122.23(a). Thus, since 1975, commanders of such aircraft have been required to furnish CBP with notice one hour prior to crossing the coastline or border, and to land at the nearest airport to the point of crossing designated by CBP for processing.

Specifically, the regulations provide that subject aircraft arriving in the continental United States from certain areas south of the United States must furnish a notice of intended arrival to the designated airport located nearest the point of crossing. 19 CFR 122.23. Section 122.24(b) provides that, unless exempt, such aircraft must land at designated airports for CBP processing and delineates the airports designated for reporting and processing purposes for these aircraft. 19 CFR 122.24(b).

During the previous six years, aircraft subject to the special reporting requirements entering the United States from the specified foreign areas at a point of crossing near San Antonio, were required to land at San Antonio International Airport (SAT) for processing by CBP. These international flights have been arriving at SAT since November 2000, when SAT was temporarily designated as an airport where aircraft arriving from certain southern areas could land pursuant to section 1453 of the Tariff Suspension and Trade Act of 2000 (Pub. L. 106-476, Nov. 9, 2000). The Miscellaneous Trade and Technical Corrections Act of 2004 (Pub. L. 108-429, Dec. 3, 2004) effectively extended the airport's designation through November 9, 2006.

This statutory designation has now expired. Community officials from San Antonio, Texas and the surrounding region have written CBP requesting that SAT be designated by regulation as an airport where aircraft arriving from certain southern areas must land.

During the six years that SAT has been statutorily designated as an airport at which these aircraft arriving from the south may land for customs processing, CBP has reported no incidents or problems arising from this designation. Such a designation will impose no additional burdens on CBP as CBP already has a significant presence at SAT, processing international passengers arriving on scheduled commercial airliners as a landing rights airport. These same CBP personnel have been processing passengers arriving from the south since SAT was temporarily designated as an airport where aircraft arriving from the south could land pursuant to the Tariff Suspension and Trade Act of 2000. SAT provides facilities and security and law enforcement support services, at no charge to CBP, to assist in the processing of aircraft. Consequently, CBP proposed in the NPRM to permanently designate SAT as an airport where certain aircraft, arriving in the United States from south of the United States, are authorized to land for CBP processing.

Analysis of Comments and Conclusion

CBP received 34 comments in response to the NPRM. These comments were all in favor of the proposal. Each comment was favorable in its entirety; no alternate courses of action, limitations or possible problems were presented by the commenters. As CBP continues to believe that this amendment will improve the effectiveness of CBP enforcement efforts to combat the smuggling of contraband by air into the United States from the south, CBP is, as proposed, adding SAT to the list of designated airports at which certain aircraft arriving in the continental United States from certain areas south of the United States must land for CBP processing.

Authority

This change is made under the authority of 5 U.S.C. 301, 19 U.S.C. 1433, 1644a, 1624, and 6 U.S.C. 203.

The Regulatory Flexibility Act and Executive Order 12866

This amendment expands the list of designated airports at which certain aircraft may land for customs processing. As described in this document, certain international flights have been arriving at SAT, pursuant to statute, from November 2000, through November 9, 2006. The expansion of the list of designated airports to include SAT will not result in any new impact on affected parties but will result in a continuation of the previous situation. Therefore, CBP certifies that this rule will not have significant economic impact on a substantial number of small entities. Accordingly, the document is not subject to the regulatory analysis or other requirements of 5 U.S.C. 603 and 604 of the Regulatory Flexibility Act (5 U.S.C. 601 et seq.). The Office of Management and Budget has determined that this rule is not a significant regulatory action as defined under Executive Order 12866.

Signing Authority

This amendment to the regulations is being issued in accordance with 19 CFR 0.2(a) pertaining to the authority of the Secretary of Homeland Security (or his or her delegate) to prescribe regulations not related to customs revenue functions.

List of Subjects in 19 CFR Part 122

Air carriers, Aircraft, Airports, Customs duties and inspection, Freight.

Amendments to Regulations

Part 122, Code of Federal Regulations (19 CFR part 122) is amended as set forth below:

PART 122—AIR COMMERCE REGULATIONS

1. The authority citation for part 122, 19 CFR, continues to read as follows:

Authority: 5 U.S.C. 301; 19 U.S.C. 58b, 66, 1431, 1433, 1436, 1448, 1459, 1590, 1594, 1623, 1624, 1644, 1644a, 2071 note.

* * * * *

§ 122.24 [Amended]

2. In § 122.24(b) the chart is amended by adding to the list of airports, in alphabetical order in the “Location” column, “San Antonio Tex” and on the same line, in the “Name” column, “San Antonio International Airport.”

Dated: March 3, 2008.
Michael Chertoff,
Secretary.

[FR Doc. E8-4578 Filed 3-6-08; 8:45 am]

BILLING CODE 9111-14-P